DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Barriers to Meaningful Use in Medicaid.” In accordance with the Paperwork Reduction Act, 44 U.S.C. 3501-3520, AHRQ invites the public to comment on this proposed information collection.

DATES: Comments on this notice must be received by March 21, 2011.

ADDRESSES: Written comments should be submitted to: Doris Lefkowitz, Reports Clearance Officer, AHRQ, by e-mail at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

Barriers to Meaningful Use in Medicaid

The Health Information Technology for Economic and Clinical Health (HITECH) Act, Title XIII of Division A and Title IV of Division B of the American Recovery and Reinvestment Act of 2009 (ARRA) (Pub. L. 111-5), provides for financial incentives for Medicaid providers to adopt and meaningfully use certified electronic health record (EHR) technologies. To ensure that eligible professionals (EPs) are able to qualify for and access these incentives, AHRQ proposes a two-year project with the objective of understanding the barriers that Medicaid health providers encounter along the way to achieving the meaningful use of EHRs. This proposed information collection will allow AHRQ to synthesize knowledge regarding the barriers that BPs encounter when attempting to achieve meaningful use and translate that knowledge to develop technical assistance and support implementation and use of EHRs.

Further, health care providers who serve Medicaid beneficiaries are serving many of AHRQ's priority populations: Inner city; rural; low income; minority; women; children; elderly; and those with special health care needs. The project is designed to solicit actionable recommendations on what activities can best help Medicaid providers take advantage of incentive payments, achieve meaningful use, and ultimately use health IT to improve health care for the Medicaid population. The information gathered under this project will also be used to inform the development of the Stage 2 and 3 Meaningful Use criteria.

In order to gather, analyze, and synthesize information on the barriers to the meaningful use criteria experienced by Medicaid providers this research has the following goals:

(1) Identify the barriers to eligibility for the incentive payments; barriers to adoption, implementation, or upgrading of ERR systems; and barriers to achieving meaningful use.

(2) Develop actionable recommendations to overcoming the barriers identified in #1 above, including, but not limited to, technical assistance that could be made available to Medicaid providers.

(3) Provide data to inform the meaningful use objectives being developed by the Center for Medicare & Medicaid Services (CMS) for Stages 2 and 3 of the EHR Incentive Program.

This study is being conducted by AHRQ through its contractor, RTI International, pursuant to AHRQ's statutory authority to conduct and support research to advance both training for health care practitioners in the use of information systems and the use of computer-based health records. 42 U.S.C. 299b-3(a)(2) and (6).

Method of Collection

To achieve the goals of this project the following data collections will be implemented:

(1) A screening questionnaire will be used to identify eligible participants, as part of the sampling procedure for the focus groups. Appended to the screening questionnaire is a series of questions for individuals who have agreed to participate in the focus groups, in order to collect descriptive and demographic information prior to the focus group session, and as part of the analysis plan.

(2) Nine focus groups will include 6-11 EPs per group, containing a mix of pediatricians, other physicians, dentists, nurse practitioners, and certified nurse midwives. Focus groups with community health center (CHC) and rural health center (RHC)-based providers will also include physician assistants and administrators. Four of the focus groups will include providers in private practice (excluding dentists), an additional four will include providers working in CHCs or RHCs, and the final group will be comprised of private practice dentists. Private practice dentists are being considered separately due to the fact that their practice patterns are likely to vary substantially from those of primary care physicians and non-physician providers. The purpose of these focus groups is to gather information about adoption issues (factors in the decision to adopt an EHR), implementation issues (organizational or environmental factors that facilitate EHR implementation and training), upgrade issues (challenges to transitioning to certified EHRs), and challenges to achieving meaningful use of ERRS as defined for Stage 1 in the final rule for the Medicare and Medicaid ERR Incentive Program (75 FR 44314) (particular functions that are problematic, the source of the challenge). Responses will also address topics related to participants' knowledge of the ERR incentive program and other factors that may facilitate EHR use. The focus group moderator will use a moderator's guide to guide discussion. Show cards will provide key reminders of content for discussion.

The information will be used to develop actionable recommendations to overcoming barriers to meaningful use of EHRs for Medicaid providers, including but not limited to technical assistance that could be made available to Medicaid providers. Furthermore, the data gathered through this research will inform the meaningful use objectives being developed by CMS for Stages 2 and 3 of the EHR Incentive Program. Three types of information will be collected: List of potential focus group participants, descriptive and demographic information about focus group participants, and the information gathered at each focus group related to the barriers to meaningful use. The information will be synthesized to provide information to the Federal government to inform the future meaningful use regulations and understand any disparities potentially resulting from the implementation of the incentive programs.

Estimated Annual Respondent Burden

Exhibit 1 shows the estimated annualized burden hours for the respondents' time to participate in this research. The screening questionnaire will be completed by 300 clinicians and will take 12 minutes to complete on average. Focus groups will be conducted with not more than 89 clinicians and will last about 2 hours. The total annual burden hours are estimated to be 238 hours.

Exhibit 2 shows the estimated annualized cost burden associated with the respondents' time to participate in this research. The total annual cost burden is estimated to be $15,902.

Exhibit 1—Estimated Annualized Burden Hours
Data collection | Number of respondents | Number of responses per respondent | Hours per response | Total burden hours
Screening Questionnaire | 300 | 1 | 12/60 | 60
Focus Groups | 89 | 1 | 2 | 178
Total | 389 | na | na | 238

Exhibit 2—Estimated Annualized Cost Burden
Data collection | Number of respondents | Total burden hours | Average hourly wage rate * | Total cost burden
Screening Questionnaire | 300 | 60 | 66.82 | $4,009
Focus Groups | 89 | 178 | 66.82 | 11,893
Total | 389 | 238 | na | 15,902
* Hourly wage rate is the weighted average of hourly rates of the types of professionals who will be participating in the focus groups. The weighted average includes the following occupational codes and wage rates: 29-1065 (Pediatricians, General), $78.67; 29-1069 (Physicians and Surgeons, All Other), $97.35; 29-1021 (Dentists, General), $76.61; 29-1111 (Registered Nurses), $32.35; 11-9111 (Medical and Health Services Managers), $40.85; 29-1071 (Physician Assistants), $41.86. Source: “National Compensation Survey: Occupational wages in the United States 2009,” U.S. Department of Labor, Bureau of Labor Statistics.

Estimated Annual Costs to the Federal Government

Exhibit 3 shows the estimated total and annualized cost to the government for conducting this research. The total cost is estimated to be $424,493.

Exhibit 3—Estimated Total and Annualized Cost
Cost component | Total cost | Annualized cost
Project Development | $79,313 | $39,657
Data Collection Activities | 99,464 | 49,732
Data Processing and Analysis | 49,732 | 24,866
Publication of Results | 38,415 | 19,208
Project Management | 37,601 | 18,801
Overhead | 119,968 | 59,984
Total | 424,493 | 212,247

Request for Comments

In accordance with the above-cited Paperwork Reduction Act legislation, comments on AHRQs information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: January 4, 2011.
Carolyn M. Clancy,
Director.

[FR Doc. 2011-410 Filed 1-14-11; 8:45 am]

BILLING CODE 4160-90-M